ENVIRONMENTAL PROTECTION AGENCY

[EPA-HQ-OPP-2021-0839; FRL-9277-01-OCSPP]

Pesticide Registration Maintenance Fee: Notice of Receipt of Requests To Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants through 2020 Pesticide Registration Maintenance Fee responses to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registrations have been cancelled only if such sale, distribution, or use is consistent with the terms as described in the final order.

DATES: Comments must be received on or before January 6, 2022.

ADDRESSES: Submit your comments, identified by docket identification (ID) number EPA-HQ-OPP-2021-0839, through the Federal eRulemaking Portal at http://www.regulations.gov. Follow the online instructions for submitting comments. Do not submit electronically any information you consider to be Confidential Business Information (CBI) or other information whose disclosure is restricted by statute. Additional instructions on commenting or visiting the docket, along with more information about dockets generally, is available at http://www.epa.gov/dockets.

Submit written withdrawal request by mail to: Registration Division (7502P), Office of Pesticide Programs, Environmental Protection Agency, 1200 Pennsylvania Ave. NW, Washington, DC 20460-0001. ATTN: Michael Yanchulis.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Michael Yanchulis, Registration Division (7502P), Office of Pesticide Programs, Environmental Protection Agency, 1200 Pennsylvania Ave. NW, Washington, DC 20460-0001; telephone number: (202) 566-2981; email address: yanchulis.michael@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by the Agency of requests from registrants to cancel 289 pesticide products registered under FIFRA section 3 (7 U.S.C. 136a) or 24(c) (7 U.S.C. 136v(c)). These registrations are listed in sequence by registration number (or company number and 24(c) number) in Table 1 of this unit.

Unless the Agency determines that there are substantive comments that warrant further review of the requests or the registrants withdraw their requests, EPA intends to issue an order in the Federal Register canceling all the affected registrations.

Table 1—Registrations With Pending Requests for Cancellation
Registration No. | Company No. | Product name
100-1078 | 100 | Scimitar CS Insecticide.
100-1163 | 100 | Suprend Herbicide.
228-611 | 228 | Proclipse 0.2% Fertilizer.
228-614 | 228 | Proclipse 1.0% Fertilizer.
241-319 | 241 | Image 70 DG.
241-383 | 241 | Acrobat MZ Fungicide.
241-395 | 241 | Acrobat MZ WDG Fungicide.
241-410 | 241 | Acrobat 50WP Fungicide.
241-411 | 241 | Stature MZ Fungicide.
241-419 | 241 | Stature DM Fungicide.
241-438 | 241 | Bas 711 02H Herbicide.
279-3358 | 279 | F7954 Ornamental Insecticide/Miticide.
279-3553 | 279 | Zoro Miticide/Insecticide.
279-3554 | 279 | Abamectin CHA 2071.
400-485 | 400 | Meta-Mil Fungicide.
400-557 | 400 | Hi-Moly/Captan-D.
400-560 | 400 | Kernel Guard Supreme.
400-562 | 400 | Protector D.
499-371 | 499 | Whitmire Pt 120 XLO Sumithrin Contact Insecticide.
499-376 | 499 | Whitmire PT 1810 Total Release Insecticide.
499-426 | 499 | Whitmire TC 114 Emulsifiable Concentrate.
499-443 | 499 | Whitmire TC 161 Injection System.
499-471 | 499 | Whitmire Micro-Gen TC200 Injection System.
499-485 | 499 | TC 218.
499-489 | 499 | TC 62.
499-523 | 499 | TC 260.
499-538 | 499 | TC 130 GEN II.
524-650 | 524 | M1838 Growth Regulator.
524-652 | 524 | M1839 Growth Regulator.
538-279 | 538 | Miracle-Gro (R) Weed & Feed.
1021-1602 | 1021 | Pyrocide Flea & Tick Dip 7407.
1677-241 | 1677 | Hydris.
1706-112 | 1706 | Nalcon 7619.
1706-201 | 1706 | H-510-M Microbiocide.
1839-120 | 1839 | Humidifier Bacteria-Algae Treatment.
1839-152 | 1839 | BTC 1010 7.5% Solution.
2596-22 | 2596 | Hartz 2 In 1 Rid Flea Dog Shampoo.
2693-61 | 2693 | Interlux Interpoxy Bottomkote 559 Green.
2693-64 | 2693 | Red Hand Antifouling Bottom Paint 50 Red.
2693-144 | 2693 | Ultra-Kote 2449H Red.
2693-177 | 2693 | Interclene XMH242 Red.
2693-178 | 2693 | Interspeed BWA360 Red.
2693-217 | 2693 | Intersmooth 460 HS BEAO47 Red.
2724-825 | 2724 | RF2180 KC A/T Combo.
3432-57 | 3432 | L-Clor.
3862-178 | 3862 | Tek-Phene.
3862-179 | 3862 | Opti-Phene Cleaner Disinfectant Deodorant.
5383-155 | 5383 | Troy EX2270.
5383-158 | 5383 | Mergal 187.
5383-177 | 5383 | Fungitrol 400 PVC Fungicide.
5383-181 | 5383 | Nuosept BMC 422.
5481-163 | 5481 | Alco Weed Killer Contact.
5481-167 | 5481 | Wettable Sulfur Agricultural Insecticide-Fungicide.
5481-273 | 5481 | Royal 70 Superior Spray Oil.
5481-494 | 5481 | Chlorethoxyfos 2.5G Granular Insecticide.
5481-502 | 5481 | Ambush 25W Insecticide.
5481-540 | 5481 | Wisdom 0.069% RUP Insecticide.
5481-552 | 5481 | Bidrin XP.
5481-555 | 5481 | Wisdom 0.1% RUP Insecticide.
5481-556 | 5481 | Wisdom 0.10% Granular Insecticide.
5481-557 | 5481 | Wisdom 0.05% Granular Insecticide.
5481-558 | 5481 | Wisdom 0.05% RUP Insecticide.
5481-560 | 5481 | Smartchoice 2.5G.
5481-588 | 5481 | Wisdom 0.2% RUP Granular Insecticide.
5481-593 | 5481 | Wisdom 0.2% Granular Insecticide.
5481-8980 | 5481 | Phorate 20 G.
5481-9029 | 5481 | Aztec 2.1% G Insecticide.
5481-9032 | 5481 | Aztec 3.78% Granular Insecticide.
5736-103 | 5736 | D'Germ Clinging Toilet Bowl Cleaner.
5785-48 | 5785 | Terr-O-Gas 50.
5785-52 | 5785 | 67-33.
5785-58 | 5785 | Chloropicrin.
7173-294 | 7173 | Rozol Pocket Gopher Bait III.
7401-9 | 7401 | Ferti-Lome Dormant Spray and Summer Oil Spray.
7401-443 | 7401 | Ferti-Lome Scalecide.
7969-263 | 7969 | Bas 556 01F Fungicide.
7969-296 | 7969 | Stamina F3 HL Fungicide Seed Treatment.
7969-317 | 7969 | Segment Herbicide.
7969-343 | 7969 | Cyfluthrin Encapsulated Residual Insecticide Spray.
8329-94 | 8329 | Merus 2.0.
8660-12 | 8660 | Herbicide Granules Formula A.
9688-84 | 9688 | Chemsico Lawn & Garden Insect Control.
9688-85 | 9688 | Chemsico Home Insect Control C.
9688-120 | 9688 | Chemsico Concentrate MP.
9688-122 | 9688 | Chemsico Aerosol MP.
9688-149 | 9688 | Chemsico Insecticide Concentrate 57P.
9688-184 | 9688 | Chemsico Fire Ant Killer PD.
9688-200 | 9688 | Chemsico Insect Granules Formula C.
9688-201 | 9688 | Chemsico Home Insect Control G.
9688-202 | 9688 | Chemsico Insecticide Concentrate C.
9688-203 | 9688 | Chemsico FAK Formula C.
9688-257 | 9688 | Chemsico Insecticide Dust D.
9779-303 | 9779 | Trust 4EC.
9779-326 | 9779 | Trific 10G.
9779-341 | 9779 | Trific 2L.
10807-144 | 10807 | Misty EX-IT Emulsifiable Concentrate.
10807-149 | 10807 | Misty 2 Plus 2.
10807-205 | 10807 | Misty Repco Kill III.
10807-207 | 10807 | Misty EX-IT CF.
12455-72 | 12455 | 5% Warfarin Concentrate.
19713-50 | 19713 | Drexel Carbaryl 80S.
19713-53 | 19713 | Drexel Carbaryl 10D.
19713-84 | 19713 | Drexel Carbaryl 95 Sprayable.
19713-89 | 19713 | Drexel Carbaryl 2L.
19713-212 | 19713 | Drexel Carbaryl 10D (10% Sevin Dust).
19713-213 | 19713 | Drexel Carbaryl 5D (5% Sevin Dust).
19713-244 | 19713 | Drexel Carbaryl 80 Dust Base.
19713-363 | 19713 | Drexel Carbaryl 85 Sprayable.
34704-843 | 34704 | Amplify.
34704-921 | 34704 | Thiofan 8 Methyl 4.5 Fungicide.
34704-935 | 34704 | Dyna-Shield Captan Fungicide.
34704-980 | 34704 | Dyna-Shield Tebuconazole—Thiram Flowable Fungicide.
34704-996 | 34704 | Agsco B-4 Herbicide.
34704-1007 | 34704 | LPI Thio-M 70 WSB.
34704-1008 | 34704 | LPI Thio-M Ag 4.5F.
42750-227 | 42750 | Thiabendazole 98% MP.
45458-17 | 45458 | Trichlor 1″ Tablets.
45458-18 | 45458 | Trichlor 3″ Tablets.
45458-20 | 45458 | Dichlor Granular.
45458-21 | 45458 | 60% Non-Foaming Algaecide.
45458-22 | 45458 | 30% Non-Foaming Algaecide.
53871-3 | 53871 | Stimukil Fly Bait.
63838-27 | 63838 | Q-D50.
69681-32 | 69681 | Clor Mor Trigran.
70060-4 | 70060 | Aseptrol Dry Carpet Sanitizer 7L.
70299-3 | 70299 | Terracyte.
70506-281 | 70506 | Hawk-1 N/O G.
74530-76 | 74530 | Helosate 75 SG Pro Herbicide.
74530-82 | 74530 | Helm Sulfentrazone 4F-CA.
83529-22 | 83529 | Shar-Guard.
83529-33 | 83529 | Shotaran 4SC.
83529-39 | 83529 | Flufenacet 500 SC Herbicide.
83529-56 | 83529 | Sharda Metolachlor 86.4EC.
87373-19 | 87373 | ARG221.05.
89459-23 | 89459 | Prentox Prenfish Toxicant.
91234-201 | 91234 | A335.06.
AL070005 | 279 | Zoro Miticide/Insecticide.
AL190002 | 100 | A21472 Plus Vaporgrip Technology.
AR810050 | 5481 | Orthene 75 S Soluble Powder.
AZ030002 | 5481 | Orthene 97 Pellets.
AZ130001 | 12455 | Final Soft Bait.
AZ920008 | 5481 | Orthene 75 S Soluble Powder.
CA010013 | 73049 | Promalin Plant Growth Regulator Solution.
CA010014 | 73049 | Pro-Gibb 4% Liquid Concentrate.
CA010015 | 73049 | Pro-Gibb 4% Liquid Concentrate.
CA010028 | 5481 | Metam 426.
CA030014 | 66222 | Diasol AG 500.
CA070007 | 73049 | Retain Plant Growth Regulator Soluble Powder.
CA080023 | 73049 | Provide 10SG Plant Growth Regulator.
CA130007 | 12455 | Agrid3 Blox.
CA150003 | 10324 | Maquat 615-HD.
CA180003 | 73049 | Maxcel.
FL030001 | 73049 | Pro-Gibb 4% Liquid Concentrate.
FL030005 | 5481 | Ambush 25W Insecticide.
FL150004 | 66222 | Fluensulfone 480EC.
GA060006 | 62719 | Indar 75WSP.
GA070002 | 62719 | Indar 75WSP.
GA070003 | 279 | Zoro Miticide/Insecticide.
GA190003 | 7969 | Engenia Herbicide.
GA190006 | 100 | A21472 Plus Vaporgrip Technology.
HI080002 | 7173 | Rozol Pellets.
HI100001 | 73049 | Retain Plant Growth Regulator Soluble Powder.
HI130001 | 73049 | Protone SG.
IA190002 | 7969 | Engenia Herbicide.
IA200001 | 100 | A21472 Plus Vaporgrip Technology.
IA970001 | 100 | AATREX 4L Herbicide.
ID010016 | 5481 | Orthene 75 S Soluble Powder.
ID060025 | 5481 | Orthene 97.
ID070008 | 279 | Brigade 2EC Insecticide/Miticide.
ID080002 | 279 | Zoro Miticide/Insecticide.
ID090012 | 71512 | Omega 500F.
ID100003 | 10163 | Moncut 70-DF.
ID110001 | 7173 | Rozol Vole Bait.
ID140004 | 5481 | Parazone 3SL.
ID150009 | 5481 | Abba Ultra Miticide/Insecticide.
ID830009 | 100 | AATREX Nine-O Herbicide.
IL070005 | 100 | Dual Magnum.
IL100003 | 100 | Dual Magnum Herbicide.
IL110001 | 5481 | Dupont Assure II Herbicide.
IL190003 | 7969 | Engenia Herbicide.
IL190005 | 100 | A21472 Plus Vaporgrip Technology.
IN200001 | 7969 | Engenia Herbicide.
IN200004 | 100 | A21472 Plus Vaporgrip Technology.
KS030003 | 100 | AATREX 4L Herbicide.
KS060001 | 12455 | ZP Rodent Bait AG.
KS080002 | 12455 | ZP Rodent Oat Bait AG.
KS100002 | 33270 | Sentry Atrazine 4L Herbicide.
KS120004 | 12455 | ZP Rodent Oat Bait AG.
KS130004 | 33270 | US Sentry Atrazine 4L Herbicide.
KS130005 | 33270 | US Sentry Atrazine 90DF.
KS190001 | 7969 | Engenia Herbicide.
LA190003 | 100 | A21472 Plus Vaporgrip Technology.
MD080004 | 70506 | Dupont Manzate Pro-Stick Fungicide.
MI140010 | 279 | Aim EC.
MI180003 | 60063 | Echo 90DF.
MI180004 | 60063 | Echo 720.
MN030010 | 60063 | Echo 720 Agricultural Fungicide.
MN030011 | 60063 | Echo ZN Agricultural Fungicide.
MN090005 | 100 | Warrior II with Zeon Technology.
MN100002 | 71512 | Omega 500F.
MN120001 | 100 | Dual Magnum Herbicide.
MN190002 | 7969 | Engenia Herbicide.
MN190004 | 100 | A21472 Plus Vaporgrip Technology.
MN200002 | 7969 | Engenia Herbicide.
MN200004 | 100 | A21472 Plus Vaporgrip Technology.
MO000002 | 5785 | Meth-O-Gas 100.
MO080004 | 70506 | Dupont Manzate Pro-Stick Fungicide.
MS040005 | 279 | NUFOS 4E.
MS070002 | 279 | Zoro Miticide/Insecticide.
MT070004 | 279 | Brigade 2ec Insecticide/Miticide.
MT150001 | 5481 | Thimet 20-G.
NC080003 | 70506 | Penncozeb 75DF.
NC120002 | 66222 | Cotoran 4L.
NC150005 | 5481 | Parazone 3SL.
NC180005 | 7969 | Engenia Herbicide.
NC190002 | 100 | A21472 Plus Vaporgrip Technology.
NC190006 | 7969 | Engenia Herbicide.
NC920001 | 5481 | Counter Systemic Insecticide-Nematicide.
ND030016 | 60063 | Echo 720 Agricultural Fungicide.
ND030017 | 60063 | Echo ZN Agricultural Fungicide.
ND100002 | 71512 | Omega 500F.
ND190002 | 7969 | Engenia Herbicide.
ND190006 | 100 | A21472 Plus Vaporgrip Technology.
ND190008 | 7969 | Engenia Herbicide.
ND190009 | 100 | A21472 Plus Vaporgrip Technology.
ND200001 | 7969 | Engenia Herbicide.
ND200004 | 100 | A21472 Plus Vaporgrip Technology.
NE140002 | 1381 | Carnivore Herbicide.
NJ000005 | 5481 | Orthene 97 Pellets.
NJ960004 | 5481 | Orthene 75 S Soluble Powder.
NM150003 | 74530 | Helmquat 3SL.
NV050001 | 5481 | Discipline 2EC.
NV070006 | 279 | Brigade 2EC Insecticide/Miticide.
NV080001 | 279 | Zoro Miticide/Insecticide.
NV090001 | 5481 | Abba 0.15EC.
NY080010 | 70506 | Kraken.
NY080014 | 70506 | Redwing.
NY180002 | 5481 | Deadline Bullets.
OH000007 | 5481 | Orthene 97 Pellets.
OH110002 | 100 | Dual Magnum Herbicide.
OK190001 | 7969 | Engenia Herbicide.
OK830003 | 100 | AATREX 4L Herbicide.
OK830029 | 100 | AATREX 4L Herbicide.
OK830030 | 100 | AATREX Nine-0.
OK920007 | 100 | AATREX 4L Herbicide.
OK920008 | 100 | AATREX Nine-0.
OR040008 | 100 | AATREX Nine-0 Herbicide.
OR050005 | 5481 | Discipline 2EC.
OR050006 | 100 | Touchdown Hitech.
OR140009 | 5481 | Parazone 3SL.
OR150001 | 70506 | Lifeline Herbicide.
OR150011 | 5481 | Abba Ultra Miticide/Insecticide.
PA170002 | 1381 | Dimetric DF 75%.
PA930004 | 5481 | Orthene 75 S Soluble Powder.
PR110002 | 5481 | Dupont Assure II Herbicide.
PR910002 | 5481 | Orthene 75 S Soluble Powder.
SD190002 | 7969 | Engenia Herbicide.
SD190006 | 100 | A21472 Plus Vaporgrip Technology.
TN070002 | 279 | Zoro Miticide/Insecticide.
TN080007 | 70506 | Dupont Manzate Pro-Stick Fungicide.
TN080009 | 70506 | Penncozeb 75DF.
TN140003 | 70506 | Manzate Pro-Stick Fungicide.
TX000006 | 100 | Tilt Fungicide.
TX080004 | 279 | Command 3ME Herbicide.
TX100006 | 5481 | Orthene Turf, Tree & Ornamental 97 Spray.
TX170007 | 67690 | Captain Liquid Copper Algaecide.
TX190002 | 7969 | Engenia Herbicide.
UT070006 | 279 | Brigade 2ec Insecticide/Miticide.
UT090002 | 279 | Zoro.
UT140003 | 59639 | Zeal WP Miticide.
UT170001 | 5481 | Parazone 3SL Herbicide.
VA080004 | 70506 | Dupont Manzate Pro-Stick Fungicide.
VA870007 | 5481 | Orthene 75 S Soluble Powder.
VA920003 | 5481 | Orthene 75 S Soluble Powder.
VA930005 | 5481 | Orthene 75 S Soluble Powder.
WA070017 | 279 | Brigade 2EC Insecticide/Miticide.
WA080003 | 279 | Zoro Miticide/Insecticide.
WA120004 | 7969 | Ignite.
WA150005 | 74530 | Ro-Neet Herbicide.
WA150006 | 74530 | Ro-Neet Herbicide.
WA200002 | 34704 | Atrazine 4L.
WA930001 | 5481 | Dupont Krovar I DF Herbicide.
WI100001 | 60063 | Echo 720 Agricultural Fungicide.
WI100002 | 60063 | Echo ZN.
WI150001 | 279 | Aim EC.
WI160003 | 60063 | Echo ZN.
WI160004 | 60063 | Echo 720.
WI160005 | 60063 | Echo 90DF.
WI160006 | 71512 | Omega 500F.

Table 2 of this unit includes the names and addresses of record for all registrants of the products in Table 1 of this unit, in sequence by EPA company number. This number corresponds to the first part of the EPA registration numbers of the products listed in this unit.

Table 2—Registrants Requesting Voluntary Cancellation
EPA company No. | Company name and address
100 | Syngenta Crop Protection, LLC, 410 Swing Road, P.O. Box 18300, Greensboro, NC 27419.
228 | Nufarm Americas, Inc., 4020 Aerial Center Parkway, Suite 101, Morrisville, NC 27560.
241 | BASF Corporation, P.O. Box 13528, Research Triangle Park, NC 27709.
279 | FMC Corporation, 2929 Walnut Street, Philadelphia, PA 19104.
400 | Macdermid Agricultural Solutions, Inc., 630 Freedom Business Center, Suite 402, King of Prussia, PA 19406.
499 | BASF Corporation, P.O. Box 13528, Research Triangle Park, NC 27709.
524 | Bayer CropScience LP, 800 N Lindbergh Blvd., St. Louis, MO 63141.
538 | The Scotts Company, 14111 Scottslawn Road, Marysville, OH 43041.
1021 | McLaughlin Gormley King Company, d/b/a MGK, 7325 Aspen Lane N., Minneapolis, MN 55428.
1381 | Winfield Solutions, LLC, P.O. Box 64589, St. Paul, MN 55164.
1677 | Ecolab, Inc., 1 Ecolab Place, St. Paul, MN 55102.
1706 | NALCO Company, LLC, A Subsidiary of Ecolab, Inc., 1601 West Diehl Road, Naperville, IL 60563.
1839 | Stepan Company, 22 W Frontage Road, Northfield, IL 60093.
2596 | The Hartz Mountain Company, 400 Plaza Drive, Secaucus, NJ 07094.
2693 | International Paint LLC, 6001 Antoine Drive, Houston, TX 77091.
2724 | Wellmark International, 1501 E Woodfield Road, Suite 200 West, Schaumburg, IL 60173.
3432 | N. Jonas @Co., Inc., P.O. Box 425, Bensalem, PA 19020.
3862 | ABC Compounding Co., Inc. P.O. Box 16247, Atlanta, GA 30321.
5383 | Troy Chemical Corp., c/o. Troy Corporation, 8 Vreeland Road, Florham Park, NJ 07932.
5481 | AMVAC Chemical Corporation, 4695 MacArthur Court, Suite 1200, Newport Beach, CA 92660.
5736 | Diversey, Inc. P.O. Box 19747, Charlotte, NC 28219.
5785 | LANXESS Corporation, 111 RIDC Park West Drive, Pittsburgh, PA 15275.
7173 | Liphatech, Inc., 3600 W Elm Street, Milwaukee, WI 53209.
7401 | Voluntary Purchasing Groups, Inc., 230 FM 87, Bonham, TX 75418.
7969 | BASF Corporation, P.O. Box 13528, Research Triangle Park, NC 27709.
8329 | Clarke Mosquito Control Products, Inc., 675 Sidwell Court, St. Charles, IL 60174.
8660 | United Industries Corp., D/B/A SYLORR Plant Corp., P.O. Box 142642, St. Louis, MO 63114.
9688 | CHEMSICO, A Division of United Industries Corp., One Rider Trail Plaza Drive, Suite 300, Earth City, MO 63045.
9779 | Winfield Solutions, LLC, P.O. Box 64589, St. Paul, MN 55164.
10163 | Gowan Company, 370 S Main Street, Yuma, AZ 85366.
10324 | Mason Chemical Company, 9075 Centre Pointe Drive, Suite 400, West Chester, OH 45069.
10807 | AMREP, Inc., 3330 Cumberland Blvd., Suite 700, Atlanta, GA 30339.
12455 | Bell Laboratories, Inc., 3699 Kinsman Blvd., Madison, WI 53704.
19713 | Drexel Chemical Company, P.O. Box 13327, Memphis, TN 38113.
33270 | Winfield Solutions, LLC, P.O. Box 64589, St. Paul, MN 55164.
34704 | Loveland Products, Inc., P.O. Box 1286, Greeley, CO 80632.
42750 | Albaugh, LLC, 1525 NE 36th Street, Ankeny, IA 50021.
45458 | Haviland Consumer Products, Inc., D/B/A Baleco International, 421 Ann Street, NW, Grand Rapids, MI 49504.
53871 | Troy Chemical Corp., c/o. Troy Corporation, 8 Vreeland Road, Florham Park, NJ 07932.
59639 | Valent U.S.A. LLC, P.O. Box 5075, San Ramon, CA 94583.
60063 | SIPCAM Agro USA, Inc., 2525 Meridian Pkwy., Suite 350, Durham, NC 27713.
62719 | Corteva Agrosciences LLC, 9330 Zionsville Road, Indianapolis, IN 46268.
63838 | Enviro Tech Chemical Services, Inc., 500 Winmoore Way, Modesto, CA 95358.
66222 | Makhteshim Agan of North America, Inc., D/B/A ADAMA, 3120 Highwoods Blvd., Suite 100, Raleigh, NC 27604.
67690 | SEPRO Corporation, 11550 N Meridian Street, Suite 600, Carmel, IN 46032.
69681 | Allchem Performance Products, Inc., 6010 NW First Place, Gainesville, FL 32607.
70060 | BASF Corporation, 100 Park Avenue, Florham Park, NJ 07932.
70299 | Biosafe Systems, LLC, 22 Meadow Street, East Hartford, CT 06108.
70506 | UPL NA, Inc., 630 Freedom Business Center, Suite 402, King of Prussia, PA 19406.
71512 | ISK Biosciences Corporation, 7470 Auburn Road, Suite A, Concord, OH 44077.
73049 | Valent Biosciences, LLC, 1910 Innovation Way, Suite 100, Libertyville, IL 60048.
74530 | Helm Agro US, Inc., 401 E Jackson Street, Suite 1400, Tampa, FL 33602.
83529 | Sharda USA LLC, c/o Wagner Regulatory Associates, Inc., P.O. Box 640, Hockessin, DE 19707.
87373 | Argite, LLC, 5000 Centregreen Way, Suite 100, Cary, NC 27513.
89459 | Central Garden & Pet Company, 1501 East Woodfield Road, Suite 200W, Schaumburg, IL 60173.
91234 | Atticus, LLC, 5000 Centregreen Way, Suite 100, Cary, NC 27513.

III. What is the Agency's authority for taking this action?

Section 6(f)(1) of FIFRA (7 U.S.C. 136d(f)(1)) provides that a registrant of a pesticide product may at any time request that any of its pesticide registrations be canceled. FIFRA further provides that, before acting on the request, EPA must publish a notice of receipt of any such request in the Federal Register. EPA will provide a 30-day comment period on the proposed requests. Thereafter, the EPA Administrator may approve such a request.

IV. Procedures for Withdrawal of Request

Registrants who choose to withdraw a request for cancellation should submit such withdrawal in via email to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products until January 15, 2022, or the date of that the cancellation notice is published in the Federal Register whichever is later. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

(Authority: 7 U.S.C. 136 et seq.)

Dated: November 26, 2021.
Catherine Aubee,
Acting Director, Registration Division, Office of Pesticide Programs.

[FR Doc. 2021-26466 Filed 12-6-21; 8:45 am]

BILLING CODE 6560-50-P